DEPARTMENT OF TRANSPORTATION

Federal Aviation Administration

14 CFR Part 39

[Docket No. FAA-2012-0987; Directorate Identifier 2012-NM-130-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 737-300, 737-400, 737-500, and 757-200 series airplanes. This proposed AD was prompted by a report of damage caused by electrical arcing to the wires that connect seat electronics boxes (SEBs). This proposed AD would require installing a new relay and doing certain wiring changes of the entertainment control switch if necessary. We are proposing this AD to prevent power from being supplied to passenger seats when the entertainment control switch is in the OFF position, which could cause an electrical shock hazard resulting in serious or fatal injury to maintenance personnel.

DATES: We must receive comments on this proposed AD by November 5, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Binh Tran, Aerospace Engineer, Systems and Equipment Branch, ANM-130S, FAA, Seattle Aircraft Certification Office, 1601 Lind Avenue SW., Renton, WA 98057-3356; phone: 425-917-6485; fax: 425-917-6590; email: binh.tran@faa.gov.

SUPPLEMENTARY INFORMATION:

Comments Invited

We invite you to send any written relevant data, views, or arguments about this proposal. Send your comments to an address listed under the ADDRESSES section. Include “Docket No. FAA-2012-0987; Directorate Identifier 2012-NM-130-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report of an electrical arcing from a seat track cover. An investigation found that there was damage to the wires that connect SEBs caused by electrical arcing at a terminator. The airplane manufacturer found that the entertainment control switch has no effect on removing electrical power from the SEBs. This condition, if not corrected, could supply power when the entertainment control switch is in the OFF position, which could cause an electrical shock hazard resulting in serious or fatal injury to maintenance personnel.

Relevant Service Information

We reviewed Boeing Special Attention Service Bulletin 737-23-1302, dated August 24, 2009 (for Model 737-300, -400, -500 series airplanes); and Boeing Special Attention Service Bulletin 757-23-0107, Revision 1, dated May 16, 2012 (for Model 757-200 series airplanes). The service information describes procedures for installing a new relay and doing certain wiring changes of the entertainment control switch if necessary.

FAA's Determination

We are proposing this AD because we evaluated all the relevant information and determined the unsafe condition described previously is likely to exist or develop in other products of these same type designs.

Proposed AD Requirements

This proposed AD would require accomplishing the actions specified in the service information described previously, except as discussed under “Differences Between the Proposed AD and the Service Information.”

Differences Between the Proposed AD and the Service Information

Note 1 in Paragraph 3.A. of the Accomplishment Instructions of Boeing Special Attention Service Bulletin 737-23-1302, dated August 24, 2009, allows the sequence of steps to be changed. This proposed AD would not allow the step sequence to be changed.

Costs of Compliance

We estimate that this proposed AD affects 28 airplanes of U.S. registry.

We estimate the following costs to comply with this proposed AD:

Estimated costs
Action | Labor cost | Parts cost | Cost per product | Cost on U.S. operators
Wire bundle change, relay installation, and operational test (one Group 1 Model 737 airplane) | 29 work-hours × $85 per hour = $2,465 | $0 | $2,465 | $2,465
Wire bundle change, relay installation, and operational test (one Group 2 Model 737 airplane) | 14 work-hours × 85 per hour = 1, 275 | 0 | 1,275 | 1,275
Wire bundle change, relay installation, and operational test (26 Model 757 airplanes) | 34 work-hours × 85 per hour = 2,890 | 0 | 2,890 | 75,140

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2012-0987; Directorate Identifier 2012-NM-130-AD.

(a) Comments Due Date

We must receive comments by November 5, 2012.

(b) Affected ADs

None.

(c) Applicability

This AD applies to The Boeing Company Model 737-300, -400, and -500 series airplanes, certificated in any category, as identified in Boeing Special Attention Service Bulletin 737-23-1302, dated August 24, 2009; and Model 757-200 series airplanes, certificated in any category, as identified in Boeing Special Attention Service Bulletin 757-23-0107, Revision 1, dated May 16, 2012.

(d) Subject

Joint Aircraft System Component (JASC)/Air Transport Association (ATA) of America Code 23, Communications.

(e) Unsafe Condition

This AD was prompted by a report of damage caused by electrical arcing to the wires that connect seat electronics boxes. We are issuing this AD to prevent power from being supplied to passenger seats when the entertainment control switch is in the OFF position, which could cause an electrical shock hazard resulting in serious or fatal injury to maintenance personnel.

(f) Compliance

Comply with this AD within the compliance times specified, unless already done.

(g) Installation of New Relay and Wiring Bundle Change

Within 24 months after the effective date of this AD: Change the wire bundle route, and install a new relay and applicable wiring of the entertainment control switch, in accordance with the Accomplishment Instructions of the service information specified in paragraph (g)(1) or (g)(2) of this AD, as applicable.

(1) For Model 737-300, -400, and -500 series airplanes: Use Boeing Special Attention Service Bulletin 737-23-1302, dated August 24, 2009.

(2) For Model 757-200 series airplanes: Use Boeing Special Attention Service Bulletin 757-23-0107, Revision 1, dated May 16, 2012.

(h) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(i) Related Information

(1) For more information about this AD, contact Binh Tran, Aerospace Engineer, Systems and Equipment Branch, ANM-130S, FAA, Seattle Aircraft Certification Office, 1601 Lind Avenue SW., Renton, WA 98057-3356; phone: 425-917-6485; fax: 425-917-6590; email: binh.tran@faa.gov.

(2) For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Issued in Renton, Washington, on September 7, 2012.
Ali Bahrami,
Manager, Transport Airplane Directorate, Aircraft Certification Service.

[FR Doc. 2012-23150 Filed 9-19-12; 8:45 am]

BILLING CODE 4910-13-P